DEPARTMENT OF ENERGY

Federal Energy Regulatory Commission

[Docket Nos. CP04-47-001 and CP05-396-001]

Sabine Pass LNG, L.P.; Notice of Application To Amend

October 29, 2008.

Take notice that on October 21, 2008, Sabine Pass LNG, L.P. (Sabine Pass), 700 Milam, Suite 800, Houston, TX 77002, filed an application in Docket Nos. CP04-47-001 and CP05-396-001, pursuant to Section 3(a) of the Natural Gas Act (NGA), 15 U.S.C. § 717b and Parts 153 and 380 of the regulations of the Federal Energy Regulatory Commission (Commission), (18 CFR Parts 153 and 380), for authorization to modify the operation of its existing liquefied natural gas (LNG) receiving terminal facility located in Cameron Parish, Louisiana for the additional purpose of exporting LNG which is expected to be imported into the United States.

This filing is available for review at the Commission's Washington, DC offices or may be viewed on the Commission's Web site at http://www.ferc.gov using the “e-Library” link. Enter the docket number, excluding the last three digits, in the docket number field to access the document. For assistance, please contact FERC Online Support at FERCOnlineSupport@ferc.gov or call toll-free at (866) 208-3676, or for TTY, contact (202) 502-8659.

Any questions regarding the application should be directed to Patricia Outtrim, Cheniere Energy, Inc., 700 Milam, Suite 800, Houston, Texas 77002, (713) 265-0212 or Lisa M. Tonery, Fulbright & Jaworski L.L.P., 666 Fifth Avenue, New York, NY 10103, (212) 318-3009, ltonery@fulbright.com.

Sabine Pass now intends to operate its facility to export LNG on a short-term basis by holding cargos of imported LNG in their tanks for re-export as desired by their LNG shippers/customers. Sabine Pass seeks to modify up to four 24-inch check valves on Unloading Arms A and D on the West and East Jetty Platforms in the marine portion of the Sabine Pass facility. No other facility modifications are required.

On August 15, 2008, Sabine Pass's affiliate, Cheniere Marketing, Inc. filed an application with the DOE—Fossil Energy seeking DOE-FE authorization to export LNG from Sabine Pass's Cameron Parish facilities. Specifically, CMI has applied for blanket authorization to allow it to export up to 64 Bcf on a cumulative basis, of LNG that has been imported into the United States from foreign sources, for a two-year period.

There will be no additional ship transits to the Sabine Pass facility as a result of the proposed export operations beyond the number anticipated for full utilization of the Sabine Pass Project as contemplated and authorized in the Letter of Recommendation and Waterway Suitability Report issued for the Sabine Pass Project.

Pursuant to section 157.9 of the Commission's rules, (18 CFR 157.9), within 90 days of this Notice the Commission staff will either complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceeding for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission, as soon as possible, an original and two copies of comments in support of or in opposition to this project and/or associated pipeline. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper; see 18 CFR 385.2001(a)(1)(iii) and the instructions on the Commission's Web site under the “e-filing” link. The Commission strongly encourages electronic filings.

Comment Date : November 21, 2008.

Kimberly D. Bose,
Secretary.

[FR Doc. E8-26253 Filed 11-3-08; 8:45 am]

BILLING CODE 6717-01-P